DELAWARE RIVER BASIN COMMISSION

Notice of Commission Meeting and Public Hearing

Notice is hereby given that the Delaware River Basin Commission will hold an informal conference followed by a public hearing on Tuesday, May 2, 2000. The hearing will be part of the Commission's regular business meeting. Both the conference session and business meeting are open to the public and will be held at the Commission offices at 25 State Police Drive, West Trenton, New Jersey.

The conference among the commissioners and staff will begin at 9:30 a.m. and will include status reports on the comprehensive plan and the Christina Basin TMDL; reports on the March 31 drought management meeting and the April 17 Water Management Advisory Committee meeting; an update on the DRBC Corps of Engineers proposal for joint projects and progress toward an agreement for storage at F.E. Walter Reservoir; and discussions about activities of the Northeast-Midwest Institute, a meeting scheduled for May 19, 2000 regarding restoration of the DRBC's federal funding, the planned DRBC 40th anniversary commemorative calendar, and upcoming Commission business meeting dates and locations.

In addition to the dockets listed below, which are scheduled for public hearing, the Commission will address the following at its 1 p.m. business meeting: Minutes of the March 7, 2000 business meeting; announcements; report on Basin hydrologic conditions; reports by the Executive Director and General Counsel; and public dialogue. The Commission also will consider resolutions to: Extend its contract with the Northeast-Midwest Institute; authorize production of a 40th anniversary calendar; and amend the Administrative Manual: By-Laws, Management and Personnel regarding approved holidays.

The dockets scheduled for public hearing are as follows:

1. Elizabethtown Water Company D-81-17 CP RENEWAL 2. An application for the renewal of a ground water withdrawal project to supply up to 51.84 million gallons (mg)/30 days of water to the applicant's public water supply system from Wells Nos. 1 and 2 in the Raritan aquifer. Commission approval on September 17, 1986 was limited to 12 years. The applicant requests that the total withdrawal from all wells remain limited to 51.84 mg/30 days. The project is located in West Windsor Township, Mercer County, New Jersey.

2. J. Carlton Wells & Sons, Inc. D-99-34. A ground water withdrawal project to supply a maximum of 179 mg/30 days of water from six wells in the Columbia aquifer, for irrigation of the applicant's farms, located near the Town of Milton, Sussex County, Delaware.

3. East Whiteland Township and The Cutler Group D-99-59 CP. A project to construct a 0.105 million gallons per day (mgd) lagoon wastewater treatment system to serve the proposed 279-unit Malvern Hunt development and other portions of East Whiteland Township, Chester County, Pennsylvania. The proposed sewage treatment plant (STP) will provide secondary treatment, and treated effluent will be discharged to a lagoon for application to spray fields located off Swedesford Road across from the STP.

4. Hatfield Quality Meats D-99-72. A ground water withdrawal project to supply up to 12.6 mg/30 days of water to the applicant's meat processing plant from new Well No. H-12, in the Brunswick aquifer, and to increase the withdrawal limit from all wells to 19.9 mg/30 days. The project is located in Hatfield Township, Montgomery County in the Southeastern Pennsylvania Ground Water Protected Area.

5. Delaware Park Racetrack & Slots D-2000-2. A surface water withdrawal project to supply up to 8.9 mg/30 days of water for seasonal irrigation of the applicant's racetrack grounds located near Stanton in New Castle County, Delaware. The water will irrigate approximately 26 acres of the applicant's track, walks and turf. Surface water will be withdrawn from two intakes situated just above an existing low dam on White Clay Creek, a tributary of the Christina River.

6. Perdue Farms, Inc. D-2000-3. A ground water withdrawal project to supply up to 60.48 mg/30 days of water to the applicant's existing poultry processing facility from new Well No. 5, and to retain the existing withdrawal limit from all wells at 66 mg/30 days. The project withdrawal is from the Columbia aquifer and is located in the Town of Georgetown, Sussex County, Delaware.

7. United States Air Force—Dover Air Force Base D-2000-5 CP. A project to replace withdrawal from existing Wells A and C in the applicant's water supply system that have become unreliable sources of supply, with new Wells A-2 and C-2. The applicant requests that the total withdrawal from all other existing wells, in combination with the new wells, be decreased from 65 mg/30 days to 56 mg/30 days. The project wells are located in the Cheswold and Piney Point Aquifers in Dover, Kent County, Delaware.

8. Stony Creek Anglers, Inc. D-2000-7. A ground water withdrawal project to supply up to 5.2 mg/30 days of water to the applicant's proposed trout nursery from new Well No. 6 in the Stockton Formation, and to limit the withdrawal from all wells to 5.2 mg/30 days. The project is located in West Norriton Township, Montgomery County, in the Southeastern Pennsylvania Ground Water Protected Area.

9. Mantua Creek Generating Company, L.P. D-2000-13. A project to construct a nominal 800 megawatt natural gas-fired, combined cycle electric generating station on a 303-acre tract immediately east of Paulsboro in West Deptford Township, Gloucester County, New Jersey. The applicant proposes to distribute the electric power via local PSE&G and Conectiv Energy lines to the Pennsylvania-Jersey-Maryland power grid. The applicant will utilize a maximum of 8.8 mgd of treated effluent from the Gloucester County Utilities Authority (GCUA) sewage treatment plant for cooling tower makeup and steam, with approximately 2.8 mgd to be returned to GCUA as wastewater.

10. H. Stanford Roberts Nursery D-2000-15. An application to supply up to 4.2 mg/30 days of water to the applicant's nursery irrigation system from existing Wells Nos. 1-3 and new Well No. 4, and to limit the combined withdrawal from all wells to 4.2 mg/30 days. The project wells are located in the Stockton Formation in Newtown Township, Bucks County, in the Southeastern Pennsylvania Ground Water Protected Area.

Documents relating to these items may be examined at the Commission's offices. Preliminary dockets are available in single copies upon request. Please contact Thomas L. Brand at (609) 883-9500 ext. 221 concerning docket-related questions. Persons wishing to testify at this hearing are requested to register with the Secretary at (609) 883-9500 ext. 203 prior to the hearing.

Individuals in need of an accommodation as provided for in the Americans With Disabilities Act who wish to attend the hearing should contact the Secretary, Pamela M. Bush, directly at (609) 883-9500 ext. 203 or through the New Jersey Relay Service at 1-800-852-7899 (TTY) to discuss how the Commission may accommodate your needs.

Dated: April 18, 2000.
Pamela M. Bush,
Secretary.

[FR Doc. 00-10477 Filed 4-26-00; 8:45 am]

BILLING CODE 6360-01-P